DEPARTMENT OF HEALTH AND HUMAN SERVICES

Centers for Disease Control and Prevention

[Program Announcement 00148]

Breast & Cervical Cancer Early Detection Activities; Notice of Availability of Funds

A. Purpose

The Centers for Disease Control and Prevention (CDC) announces the availability of fiscal year (FY) 2000 funds for a cooperative agreement program for Breast & Cervical Cancer Early Detection Activities. This program focuses on serving women in the American Indian/Alaska Native populations.

In August 1994, Congress passed the National Breast and Cervical Cancer Mortality Prevention Act (Pub. L. 101-354). The NBCCEDP program was established to eliminate disparity and provide comprehensive breast and cervical cancer screening services for all women at or below 250 percent of the official poverty line. The American Indian/Alaska Natives (AI/AN) are the only ethnic group specifically mentioned as a priority population in the law. CDC is committed to achieving the health promotion and disease prevention objectives of “Healthy People 2010,” a national activity to reduce morbidity and mortality and improve the quality of life. This announcement is related to the focus area of cancer. For the conference copy of “Healthy People”, visit the internet address site: <http://www.health.gov/healthypeople>.

The purpose of this announcement is to provide Breast and Cervical Cancer Early Detection Activities reaching the maximum number of eligible American Indian/Alaska Native women possible. This will be done by:

1. Enhancing tribal grantee capacity to plan, implement, monitor and evaluate screening, referral and follow-up, case management, public education and outreach, professional education, quality assurance, surveillance, evaluation, partnership development and community involvement in their NBCCEDP screening services.

2. Enhancing the State grantee capacity to understand the unique issues preventing American Indian/Alaska Native women from being screened and to work more effectively to reach tribal women in their states. In a recent meeting at CDC, tribal leaders urged CDC to help build their capacity for developing, implementing and monitoring programs when tribal expertise in a given area was not available. This includes, when possible, respecting their preference for technical assistance to be provided by American Indians for programs serving American Indians and by funding programs directly instead of channeling funds through states for American Indian/Alaska Native programs. See Attachment I for additional background information.

B. Eligible Applicants

Assistance will be provided only to a nonprofit organization with extensive experience serving the American Indian/Alaska Natives populations with the management of women health care programs, including Breast and Cervical Cancer Early Detection Activities. Therefore, eligible organizations should have staff in key positions with evidence of 5 or more years experience. Provide proof of nonprofit status, see AR-15 in Attachment II for additional detail information. The eligible applicants should demonstrate the following:

1. Knowledge and experience in the development of American Indian/Alaska Native women health programs;

2. Have members who are from, or have worked in and are familiar with, each of the 12 Indian Health Service Areas; and

3. Have extensive knowledge of the unique health service delivery issues for American Indian/Alaska Native women and have experience in working with IHS, tribes, tribal organizations, and state staff to identify effective strategies to deliver culturally competent services to this population;

4. Have a past history of demonstrated success in planning, implementing and monitoring health programs such as:

a. Director of Health of the Navajo Nation

b. Director of California Indian Health Board

c. Director of Oklahoma City Indian Clinic

d. Director of Inter-Tribal Council of Michigan

e. Advisors to the Indian Health Service on AI/AN women's health issues

Limited competition is justified under this Program Announcement due to the limited number organizations that have expertise serving American Indian/Alaska Natives populations with the management of women health care programs, including Breast and Cervical Cancer Early Detection Activities.

Note: Public Law 104-65 states that an organization described in section 501(c)(4) of the Internal Revenue Code of 1986 that engages in lobbying activities is not eligible to receive Federal funds constituting an award, grant, cooperative agreement, contract, loan, or any other form.

C. Availability of Funds

Approximately $300,000 is available in FY 2000 to fund one award. It is expected that the award will begin on or before September 30, 2000, for a 12-month budget period within a project period of up to 3 years.

Funding estimates may change. A continuation award within an approved project period will be made on the basis of satisfactory progress as evidenced by required reports and the availability of funds.

Use of Funds

Cooperative agreement funds may not be expended to provide inpatient hospital or treatment services. Treatment is defined as any service recommended by a clinician, including medical and surgical intervention provided in the management of a diagnosed condition.

D. Program Requirements

Breast and Cervical Cancer Early Detection Program activities should adhere to current accepted public health recommendations by the U.S. Preventive Services Task Force, or current Division of Cancer Prevention and Control (DCPC) guidance (See Attachment Public Law 101-354)

In conducting activities to achieve the purpose of this program, the recipient shall be responsible for activities under 1. (Recipient Activities), and CDC shall be responsible for conducting activities under 2. (CDC Activities.)

1. Recipient Activities

a. Collaborate with tribal grantees in the development of annual workplans which will use goals, objectives, activities and time frames that are realistic, measurable and relevant for reaching American Indian/Alaska Native women for screening.

b. Facilitate meetings with states and tribes/tribal organizations within those states to develop realistic and culturally sensitive approaches for screening women.

c. Conduct culturally effective Professional education to National Breast and Cervical Cancer Early Detection Program (NBCCEDP) sponsored tribes, tribal organizations and states working directly with tribes.

d. Participate in CDC-sponsored annual trainings, meetings, and conferences for AI/AN grantees designed to increase culturally appropriate health care delivery and cultural sensitivity for cooperative agreement grantees.

e. Monitor and evaluate the program including process and outcome measures.

2. CDC Activities

a. Assist with providing orientation to staff on the unique requirements of the NBCCEP program by consultation and technical assistance in the planning and evaluation or program activities.

b. Collaborate in the development of workshops planning outreach strategies for tribal grantees and states screening AI/AN women.

c. Provide consultation and technical assistance on guidance on NBCCEDP management topics to be considered for technical assistance.

d. Assist in developing and planning annual trainings, meetings, and conferences designed to increase culturally appropriate health care delivery and cultural sensitivity for cooperative agreement grantees.

E. Application Content

Use the information in the “Program Requirements,” “Other Requirements,” and “Evaluation Criteria” sections to develop the application content. Your application will be evaluated on the criteria listed, so it is important to follow them in laying out your program plan. The narrative should be no more than 20 (twenty) double-spaced pages, printed on one side, with one-inch margins, and unreduced 12 point font.

The narrative should contain:

1. Statement of Need—Identify opportunities for enhancement/improvement addressing existing gaps in the support of AI/AN BCCEDP activities. Describe the extent to which the proposed activities will fill existing gaps.

2. Objectives—Establish and submit short-and long-term objectives for each activity proposed in Section 1 (statement of need) above. Objectives must be specific, measurable, attainable, time phased, and realistic.

3. Operational Plan—Submit an operational plan that addresses means for achieving each of the objectives established in Section 2 (objectives) above. Provide a concise description of each component or major activity and how it will be implemented. The plan must identify and establish a time line for the completion of each component or major activity.

4. Evaluation Plan—Submit a quantitative plan for monitoring progress toward achieving each of the objectives stated in Section 2 (objectives) above.

5. Organizational Capacity/Program Management—Describe the capacity of the organization/group to perform the technical assistance activities relating to Breast and Cervical Programs. Provide an organizational chart and a curricula vitae(not to exceed 2 pages per person) for each member of the organization that will be providing technical assistance.

6. Budget—Submit a detailed budget and narrative justification for the activities that is consistent with the purpose of the program and the proposed activities.

F. Submission and Deadline

Submit an original and two copies of PHS 5161-1 (OMB Number 0937-0189) on or before August 15, 2000, submit the application to the Grants Management Specialist identified in the “Where to Obtain Additional Information” section of this announcement.

Deadline: The application will be considered as meeting the deadline if it is either:

a. Received on or before the stated deadline date; or

b. Sent on or before the deadline date. (Applicant must request a legibly dated U.S. Postal Service postmark or obtain a legibly dated receipt from a commercial carrier or the U.S. Postal Service. Private metered postmarks shall not be acceptable proof of timely mailing.)

Late Application: If the application does not meet the criteria in 1.a. or 1.b. above it will be a considered late application and will be returned to the applicant.

G. Evaluation Criteria

The application will be evaluated according to the following criteria by an independent review group appointed by CDC.

1. Statement of Need. The extent to which the applicant identifies specific opportunities and existing gaps related to the purpose of the program. (10 points)

2. Objectives. The degree to which short-and long-term objectives are specific, measurable, attainable, time phased, and realistic.(15 points)

3. Operational Plans. The adequacy of the applicant's plan to carry out the proposed activities, including the extent to which the applicant plans to work collaboratively with other organizations and individuals who may have an impact on breast and cervical cancer prevention and control objectives. (30 points)

4. Organizational Capacity/Program Management. The extent to which the organization appears to have the organizational capacity and program management to develop and manage the program. The extent to which proposed staff appear to be qualified and possess capacity to perform the technical assistance described. The extent to which staff has expertise working with American Indian/Alaska Natives populations with the management of women health care programs, including Breast and Cervical Cancer Early Detection Activities. (30 points)

5. Evaluation Plan. The extent to which the evaluation plan appears capable of monitoring progress toward meeting project objectives. (15 points)

6. Budget. The extent to which each line-item budget and narrative justification is reasonable and consistent with the purpose and objectives of the program. (Not weighted)

H. Other Requirements

Technical Reporting Requirements

Provide CDC with the original plus two copies of the following:

1. Annual written progress report must be submitted 30 days after the end of each budget period.

2. Financial status report (FSR) must be submitted 90 days after the end of each budget period.

3. Final financial and performance reports, must be submitted 90 days after the end of the project period.

Send all reports to the Grants Management Specialist identified in the “Where to Obtain Additional Information” section of this announcement.

The following additional requirements are applicable to this program. For a complete description of each, see Attachment II in the application package.

AR-9 | Paperwork Reduction Act Requirements
AR-10 | Smoke-Free Workplace Requirements
AR-11 | Healthy People 2010
AR-12 | Lobbying Restrictions
AR-15 | Proof of Non Profit Status

I. Authority and Catalog of Federal Domestic Assistance Number

This program is authorized under sections 301(a), 317(k)(2) of the Public Health Service Act (42 U.S.C. 241(a) and 247b(k)(2)), as amended. The Catalog of Federal Domestic Assistance Number for this program is 93.283.

J. Where To Obtain Additional Information

To obtain additional information contact: Cynthia Collins, Grants Management Specialist, Grants Management Branch, Procurement and Grants Office, Announcement 00148, Centers for Disease Control and Prevention (CDC), Room 3000, 2920 Brandywine Road, Atlanta, GA 30341, telephone (770)-488-2757, E-mail address: CCollns@CDC.GO

See also the CDC home page on the Internet:

http://www.cdc.gov

For program technical assistance, contact: Annie Voigt, Program Consultant, Section C, Program Services Branch, Division of Cancer Prevention and Control, National Center for Chronic Disease Prevention and Health Promotion, Centers for Disease Control and Prevention (CDC), 4770 Buford Highway, NE., Mailstop K-57, Atlanta, GA 30341-3724, telephone (770) 488-4707, fax (770) 488-3230.

Dated: July 7, 2000.
Mary Anne Bryant,
Acting Director, Procurement and Grants Office Centers for Disease Control and Prevention (CDC).

[FR Doc. 00-17702 Filed 7-12-00; 8:45 am]

BILLING CODE 4163-18-P